DEPARTMENT OF LABOR

Occupational Safety and Health Administration

Maritime Advisory Committee for Occupational Safety and Health; Notice of Meeting

AGENCY: Occupational Safety and Health Administration (OSHA), Labor.

ACTION: Maritime Advisory Committee for Occupational Safety and Health; Notice of Meeting.

SUMMARY: The Maritime Advisory Committee for Occupational Safety and Health (MACOSH), established under Section 7 of the Occupational Safety and Health Act of 1970 to advise the Secretary of Labor on issues relating to occupational safety and health programs, policies, and standards in the maritime industries in the United States, will meet in Houston, Texas.

DATES: The Committee will meet:

—On February 29, 2000, from 9 a.m. until approximately 5 p.m.; and

—On March 1, 2000, from 8:30 a.m. until approximately 5 p.m.

ADDRESSES: The Committee will meet at the Westin Galleria Hotel, 5060 West Alabama, Houston, Texas 77056; telephone (713) 960-8100. Mail comments, views, or statements in response to this notice to Chap Pierce, Director, Office of Fire Protection Engineering and Systems Safety Standards, OSHA, U.S. Department of Labor, Room N-3609, 200 Constitution Avenue, NW, Washington, DC 20210. Phone: (202) 693-2255; Fax: (202) 693-1663.

FOR FURTHER INFORMATION CONTACT: Chap Pierce, Acting Director, Office of Maritime Standards, OSHA; Phone (202) 693-2086.

SUPPLEMENTARY INFORMATION: All interested persons are invited to attend the public meetings of MACOSH at the time and place indicated above. Individuals with disabilities wishing to attend should contact Theda Kenney at (202) 693-2222 no later than February 18, 2000, to obtain appropriate accommodations.

Meeting Agenda

This meeting will include discussion of the following subjects: OSHA Standards update, OSHA Compliance update, Training initiatives, Committee rechartering, NIOSH update on Ergonomics and other significant research, and MACOSH workgroup reports.

Public Participation

Written data, views, or comments for consideration by MACOSH on the various agenda items listed above may be submitted, preferably with copies, to Chap Pierce at the address listed above. Submissions received by February 18, 2000, will be provided to the members of the Committee and will be included in the record of the meeting. Requests to make oral presentations to the Committee may be granted if time permits. Anyone wishing to make an oral presentation to the Committee on any of the agenda items noted above should notify Chap Pierce by February 22, 2000. The request should state the amount of time desired, the capacity in which the person will appear, and a brief outline of the content of the presentation.

Authority: This notice is issued under the authority of sections 6(b)(1) and 7(b) of the Occupational Safety and Health Act of 1970 (29 U.S.C. 655, 656), the Federal Advisory Committee Act (5 U.S.C. App. 2), and 29 CFR part 1912.

Signed at Washington, DC, this 25th day of January, 2000.
Charles N. Jeffress,
Assistant Secretary of Labor.

[FR Doc. 00-2134 Filed 1-31-00 8:45 am]

BILLING CODE 4510-26-M